FEDERAL COMMUNICATIONS COMMISSION

Notice of Public Information Collection(s) Being Reviewed by the Federal Communications Commission for Extension Under Delegated Authority

August 28, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments November 7, 2003. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the internet to Judith-B.Herman@fcc.gov.

FOR FURTHER INFORMATION CONTACT: For additional information or copies of the information collections contact Judith B. Herman at 202-418-0214 or via the internet at Judith-B.Herman@fcc.gov.

SUPPLEMENTARY INFORMATION:

OMB Control No.: 3060-0441.

Title: Section 90.621(b)(4), Selection and Assignment of Frequencies.

Form No.: N/A.

Type of Review: Extension of a currently approved collection.

Respondents: Business or other for profit, not-for-profit institutions, and state, local, or tribal government.

Number of Respondents: 250.

Estimated Time Per Response: .5 hours for respondents who choose to contract out the requirement; 1.5 hours for respondents who will employ in-house staff.

Frequency of Response: On occasion reporting requirement.

Total Annual Burden: 188 hours.

Annual Reporting and Recordkeeping Cost Burden: $19,000.

Needs and Uses: This rule section requires Specialized Mobile Radio (SMR) applicants who wish to locate co-channel systems less than 70 miles from an existing system operating on the same channel may do so upon a specific request. If the requested distance falls within the parameters of a table provided in the rules, the applicant must provide certain information about the co-channel stations, but no waiver of the short spacing rule is required. If the request is for distances less than those prescribed in the table, a waiver of the short spacing rule is required. Incumbent licensees seeking to utilize an 18 dBMU signal strength interference contour, and that are unsuccessful in obtaining the consent of affected co-channel incumbents, may submit to any certified frequency coordinator of 800 MHz band channels an engineering study showing that interference will not occur, together with proof that the incumbent licensee has sought consent. The incumbent may then provide to the Commission in their modified applications a statement from a certified frequency coordinator that no harmful interference will occur to a co-channel licensee. The Commission will submit this information collection to the OMB after the requisite 60 day comment period as an extension (no change) to obtain the full three year clearance.

Federal Communications Commission.
Marlene H. Dortch,
Secretary.

[FR Doc. 03-22678 Filed 9-5-03; 8:45 am]

BILLING CODE 6712-01-P